DEPARTMENT OF AGRICULTURE

Natural Resources Conservation Service

Technical Service Provider (TSP) Training

AGENCY: Natural Resources Conservation Service, USDA.

ACTION: Notice of meeting.

SUMMARY: The Natural Resources Conservation Service (NRCS) National Employee Development Center (NEDC) is announcing a forthcoming meeting to discuss and plan for Technical Service Provider (TSP) training development activity. Emphasis of the meeting will be on identifying fill gaps that exist for individuals to receive training and become proficient in a variety of technical areas for which training opportunities are not readily available. The meeting will also propose methods for filling such gaps.

DATES: The meeting will be held June 23-25, 2004, at the Millennium Hotel in St. Louis, Missouri. The meeting will begin on Wednesday, June 23rd at 1 p.m. It will conclude on Friday, June 25th at 12 p.m. A block of rooms at the hotel has been reserved for this meeting. When making reservations to attend this meeting, advise the hotel that you are attending the NRCS TSP Training Workshop. Reservations should be made not later than May 28, 2004.

ADDRESSES: The Millennium Hotel is located at 200 South Fourth Street, Saint Louis, Missouri. Telephone: 314-241-9500.

FOR FURTHER INFORMATION CONTACT: Questions about this meeting should be directed to Jerry Williams, Agricultural Economist—NEDC, at 817-509-3259; or Charles H. Lander, National Agronomist, at 202-690-0249.

SUPPLEMENTARY INFORMATION: This meeting is designed to bring together organizations, agencies, and other entities interested in developing TSP training courses or materials, and/or in providing training to TSPs and individuals who wish to become TSPs. The meeting will focus on areas that are currently considered gaps for TSP related training, and on developing a plan for TSP training development activity. The plan will identify the technical areas for which training opportunities are needed, propose methods through which interested entities and NRCS can collaborate together to develop TSP training materials and opportunities for specific technical areas.

Dated: May 20, 2004.
Helen V. Huntington,
Federal Register Liaison, Natural Resources Conservation Service.

[FR Doc. 04-11967 Filed 5-26-04; 8:45 am]

BILLING CODE 3410-16-P